DEPARTMENT OF TRANSPORTATION

Federal Aviation Administration

Notice of Approval of the Record of Decision for Proposed Development at the Port Columbus International Airport, Columbus, OH

AGENCY: Federal Aviation Administration (FAA), DOT.

ACTION: Notice of Approval of the Record of Decision (ROD).

SUMMARY: The FAA is announcing approval of the Record of Decision on the Final Environmental Impact Statement, Section 303c Evaluation, and Section 106 Evaluation for proposed development at the Port Columbus International Airport, Columbus, Ohio.

FOR FURTHER INFORMATION CONTACT: Ms. Katherine S. Delaney, FAA, Airports District Office, 11677 South Wayne Road, Suite 107, Romulus, MI 48174, telephone (734) 229-2900; fax: (734) 229-2950.

SUPPLEMENTAL INFORMATION: The ROD approves the proposed development at Port Columbus International Airport including: construction of a replacement runway 10,113 feet long, located 702 feet south of the existing Runway 10R/28L; development of new terminal facilities, including a new terminal apron in the midfield area, with access from the south airfield; construction of additional taxiways to support the replacement runway; necessary NAVAIDs; proposed aviation-related development (noise berm); associated roadway relocations and construction (internal loop roadway modifications, relocated airport perimeter road); parking improvements (including both surface lots and parking garage); property acquisition and relocation of residences and businesses; construction and implementation of ancillary facilities to support the proposed development (expansion of the central utility plant, aircraft fueling system, airside/landside drainage improvements, expansion of the glycol collection and treatment system, and relocation of the utility corridors); development of air traffic operational procedures for the replacement runway; and implementation of the proposed Part 150 noise abatement actions.

The ROD indicates the project is consistent with existing environmental policies and objectives as set forth in the National Environmental Policy Act (NEPA) of 1969, as amended, and will not significantly affect the quality of the environment.

In reaching this decision, the FAA has given careful consideration to: (a) The role of CMH in the national air transportation system, (b) aviation safety, (c) preferences of the airport owner, and (d) anticipated environmental impact.

Discussions of these factors are documented in the Draft Environmental Impact Statement, the Final Environmental Impact Statement (FEIS), Section 303c Evaluation, and the Section 106 Evaluation for the project. The notice of availability of the FEIS appeared in the Federal Register on March 20, 2009 (Volume 74, Number 53 Pages 11986-11987), and the comment period ran through April 20, 2009. The FAA's determinations on the project are outlined in the ROD, which was approved on August 19, 2009.

Issued in Romulus, Michigan, on August 24, 2009.
Matthew J. Thys,
Manager, Detroit Airports District Office, FAA, Great Lakes Region.

[FR Doc. E9-21897 Filed 9-9-09; 8:45 am]

BILLING CODE 4910-13-P